NUCLEAR REGULATORY COMMISSION

10 CFR Part 61

RIN 3150-AI92

[NRC-2011-0012]

Site-Specific Analyses for Demonstrating Compliance With Subpart C Performance Objectives

AGENCY: Nuclear Regulatory Commission.

ACTION: Notice of availability of preliminary proposed rule language and public meeting.

SUMMARY: The U.S. Nuclear Regulatory Commission (NRC) is proposing to amend its regulations to require low-level radioactive waste disposal facilities to conduct site-specific analyses to demonstrate compliance with the performance objectives. While the existing regulatory requirements are adequate to protect public health and safety, these amendments would enhance the safe disposal of low-level radioactive waste. The NRC is proposing additional changes to the regulations to reduce ambiguity, facilitate implementation, and to better align the requirements with current health and safety standards. In addition, the NRC is making available the rulemaking's associated regulatory basis documents. The NRC will conduct a public meeting on May 18, 2011, to discuss the preliminary proposed rule language and its associated regulatory basis documents. The availability of the preliminary proposed rule language and its associated regulatory basis documents are intended to inform stakeholders of the current status of the NRC's activities and solicit early public comments.

DATES: Comments on the preliminary proposed rule language and the regulatory basis documents should be postmarked no later than June 18, 2011. Comments received after this date will be considered if it is practical to do so, but the NRC is able to assure consideration only for comments received on or before this date.

See SUPPLEMENTARY INFORMATION section for public meeting information.

ADDRESSES: Please include Docket ID NRC-2011-0012 in the subject line of your comments. Comments submitted in writing or in electronic form will be posted on the NRC Web site and on the Federal rulemaking Web site, http://www.regulations.gov. Because your comments will not be edited to remove any identifying or contact information, the NRC cautions you against including any information in your submission that you do not want to be publicly disclosed. The NRC requests that any party soliciting or aggregating comments received from other persons for submission to the NRC inform those persons that the NRC will not edit their comments to remove any identifying or contact information, and therefore, they should not include any information in their comments that they do not want publicly disclosed. You may submit comments by any one of the following methods:

• Federal Rulemaking Web site: Go to http://www.regulations.gov and search for documents filed under Docket ID NRC-2011-0012. Address questions about NRC dockets to Carol Gallagher; telephone: 301-492-3668; e-mail: Carol.Gallagher@nrc.gov.

• Mail comments to: Secretary, U.S. Nuclear Regulatory Commission, Washington, DC 20555-0001, Attn: Rulemakings and Adjudications Staff.

• E-mail comments to: Rulemaking.Comments@nrc.gov. If you do not receive a reply e-mail confirming that we have received your comments, contact us directly at 301-415-1677.

• Hand deliver comments to: 11555 Rockville Pike, Rockville, Maryland 20852, between 7:30 a.m. and 4:15 p.m. Federal workdays. (telephone: 301-415-1677).

• Fax comments to: Secretary, U.S. Nuclear Regulatory Commission at 301-415-1101.

You can access publicly available documents related to this proposed rule using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by e-mail to pdr.resource@nrc.gov. The preliminary proposed rule language is available electronically under ADAMS Accession Number ML111150205, the regulatory basis is available under ADAMS accession number ML111040419, and the “Technical Analysis Supporting Definition of Period of Performance for Low-Level Waste Disposal.” is available under ADAMS Accession Number ML111030586.

• Federal Rulemaking Web site: Public comments and supporting materials related to this notice, including the preliminary proposed rule language and regulatory basis documents, can be found at http://www.regulations.gov by searching on Docket ID NRC-2011-0012.

FOR FURTHER INFORMATION CONTACT: Andrew Carrera, Office of Federal and State Materials and Environmental Management Programs, U.S. Nuclear Regulatory Commission, Washington, DC 20555-0001, telephone 301-415-1078, e-mail Andrew.Carrera@nrc.gov.

SUPPLEMENTARY INFORMATION:

Discussion

The NRC is proposing to amend its regulations to require low-level radioactive waste disposal facilities to conduct site-specific analyses to demonstrate compliance with the performance objectives in Title 10 of the Code of Federal Regulations (10 CFR) part 61. The purpose of these amendments would be to enhance the safe disposal of low-level radioactive waste. The NRC is also proposing additional changes to the regulations in 10 CFR part 61 to reduce ambiguity, facilitate implementation, and to better align the requirements with current health and safety standards.

The NRC is making available a preliminary version of the proposed rule language and its associated regulatory basis documents to inform stakeholders of the current status of this proposed rulemaking. The NRC is inviting stakeholders to comment on the preliminary proposed rule language and its associated regulatory basis documents. The preliminary proposed rule language may be subject to additional significant revisions during the rulemaking process prior to publication for formal comment as a proposed rule.

The NRC will review and consider any comments received on the preliminary proposed rule language and regulatory basis documents; however, the NRC will not formally respond to comments. As appropriate, the Statements of Consideration for the proposed rule may briefly discuss any substantive changes made to the proposed rule language as a result of comments received on this preliminary version. Stakeholders will also have an additional opportunity to comment on the rule language when it is published as a proposed rule in accordance with the provisions of the Administrative Procedures Act. The NRC will respond to any such comments in the Statements of Consideration for the final rule.

The NRC may post updates to the preliminary rule language on the Federal rulemaking Web site under Docket ID NRC-2011-0012. The Regulations.gov Web site allows members of the public to set-up e-mail alerts so that they may be notified when documents are added to a docket. Users are notified via e-mail at an e-mail address provided at the time of registration for the notification. Directions for signing up for the e-mail alerts can be found at http://www.regulations.gov. To do so, navigate to a docket folder you are interested in and then click the “Sign up for E-mail Alerts” link.

Public Meeting

The NRC plans to conduct a public meeting on May 18, 2011, to discuss the preliminary proposed rule language and the regulatory basis documents. The public meeting will be held from 8:30 a.m. to 4:30 p.m. at The Legacy Hotel and Meeting Centre, 1775 Rockville Pike, Rockville, Maryland 20852. The meeting will provide an opportunity for stakeholders to ask clarifying questions to help formulate written comments. The meeting agenda can be viewed and downloaded electronically from the NRC's Public Meeting Web site.

Attendees are requested to notify Mr. Andrew Carrera at (301) 415-1078 or e-mail Andrew.Carrera@nrc.gov of their planned attendance and if special services are necessary, such as for the hearing impaired. In addition, interested individuals may also request to participate via teleconference or Webinar by contacting Mr. Carrera prior to the meeting day.

Dated at Rockville, Maryland, this 27th day of April, 2011.
For the Nuclear Regulatory Commission.
Deborah Jackson,
Deputy Director, Division of Intergovernmental Liaison and Rulemaking, Office of Federal and State Materials and Environmental Management Programs.

[FR Doc. 2011-10711 Filed 5-2-11; 8:45 am]

BILLING CODE 7590-01-P